DEPARTMENT OF HEALTH AND HUMAN SERVICES

National Institutes of Health

Submission for OMB Review; 30-Day Comment Request; CareerTrac

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Dr. Kristi Pettibone, Health Scientist Administrator, Program Analysis Branch, Division of Extramural Research and Training, NIEHS, NIH, 560 Davis Dr., Morrisville, NC 27560, or call non-toll-free number (984) 287-3303 or Email your request, including your address to: pettibonekg@niehs.nih.gov.

SUPPLEMENTARY INFORMATION: This proposed information collection was previously published in the Federal Register on December 12, 2020, page 79493-79494 (64 FR 15367) and allowed 60 days for public comment. No public comments were received. The purpose of this notice is to allow an additional 30 days for public comment. The Fogarty International Center (FIC), National Cancer Institute (NCI), National Institute of Diabetes and Digestive and Kidney Diseases (NIDDK), and National Institute of Environmental Health Sciences (NIEHS), may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: CareerTrac-0925-0568—expiration date April 30, 2021, REVISION, Fogarty International Center (FIC), National Institute of Environmental Health Sciences (NIEHS), National Cancer Institute (NCI), National Institute of Diabetes and Digestive Kidney Diseases, (NIDDK), National Institutes of Health (NIH).

Need and Use of Information Collection: The purpose of this data collection system is to track, evaluate and report short and long-term outputs, outcomes and impacts of trainees involved in health research training programs-specifically tracking this for at least ten years following training by having Principal Investigators enter data after trainees have completed the program. The data collection system provides a streamlined, web-based application permitting principal investigators to record career achievement progress by trainee on a voluntary basis. FIC, NCI, NIDDK, and NIEHS management will use this data to monitor, evaluate and adjust grants to ensure desired outcomes are achieved, comply with OMB Part requirements, respond to congressional inquiries, and as a guide to inform future strategic and management decisions regarding the grant program.

OMB approval is requested for 3 years. There are no costs to respondents other than their time. The total estimated annualized burden hours are 12,705.

Estimated Annualized Burden Hours
Type of respondent | Number of respondents | Number of responses per respondent | Average burden per response (in hours) | Total annual burden hour
FIC Grantee | 90 | 20 | 40/60 | 1,200
NIEHS Grantee | 60 | 45 | 40/60 | 1,800
NCI CRCHD Grantee | 244 | 22 | 40/60 | 3,579
NCI D43 Grantee | 20 | 22 | 40/60 | 293
Superfund Grantee | 30 | 105 | 40/60 | 2,100
NIDDK Grantee | 30 | 20 | 40/60 | 400
Trainees | 5,000 | 1 | 40/60 | 3,333
Total | 5,474 | 19,058 |  | 12,705

Jane M. Lambert,
Project Clearance Liaison, National Institute of Environmental Health Sciences, National Institutes of Health.

[FR Doc. 2021-03871 Filed 2-24-21; 8:45 am]

BILLING CODE 4140-01-P